DEPARTMENT OF THE INTERIOR

Bureau of Land Management

[WO-220-1050-PF-24-1A]

Extension of Approved Information Collection, OMB Control Number 1004-0182

AGENCY: Bureau of Land Management, Interior.

ACTION: Notice and request for comments.

SUMMARY: In accordance with the Paperwork Reduction Act of 1995, the Bureau of Land Management (BLM) is requesting the Office of Management and Budget (OMB) to extend an existing approval to collect certain information from Alaska Natives interested in reindeer grazing activities on public lands BLM administers. BLM uses AK Form 4201-1, Grazing Lease or Permit Application, and AK Form 4132-2, Reindeer Grazing Permit, to collect this information. This information allows BLM to determine assessment of the compatibility of reindeer grazing on public lands with multiple-use objectives (43 CFR part 4300).

DATES: You must submit your comments to BLM at the address below on or before April 14, 2003. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0182” and your name and return address in your Internet message.

You may deliver comments to the Bureau of Land Management, Administrative, Record, Room 401, 1620 L Street, NW., Washington, DC.

All comments will be available for public review at the L Street address during regular business hours (7:45 a.m. to 4:15 p.m.), Monday through Friday.

FOR FURTHER INFORMATION CONTACT: You may contact Larry Field, BLM Northern Field Office, on (907) 474-2343 (Commercial or FTS). Persons who use a telecommunications device for the deaf (TDD) may call the Federal Information Relay Service (FIRS) at 1-800-877-8330, 24 hours a day, seven days a week, to contact Mr. Field.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the burden of the proposed collection of information, including the validity of the methodology and assumptions we use;

(c) Ways to enhance the quality, utility, and clarity of the information collected; and

(d) Ways to minimize the burden of the collection of information on those who are to respond, including the use of appropriate automated, electronic, mechanical, or other technological collection techniques or other forms of information technology.

The Act of September 1, 1937 (50 Stat. 900; 25 U.S.C. 500 et seq.) authorizes the Secretary of the Interior to manage the reindeer industry in Alaska to maintain a self-sustaining industry for Natives of Alaska. The Act also authorizes the Secretary to issue permits to those Natives for grazing reindeer on public lands. The regulations at 43 CFR part 4300 authorizes Alaska Natives to apply to BLM to permits to graze reindeer and to construct improvements on the land.

BLM requires that applicant use the AK Form 4201-1, Grazing Lease or Permit Application, and the AK Form 4132-2, Reindeer Grazing Permit, to submit the following information:

(a) Name and address;

(b) A legal description of the land applied for;

(c) Whether the applicant is an Alaska Native, citizen of the United States, or a qualified corporation;

(d) Whether the applicant has examined the land and whether there are any improvements on the land, in which case the applicant needs to provide a list of the surface owners;

(e) Whether the applicant has previously used the land;

(f) How many acres of adjoining land, if any, the applicant controls;

(g) Whether the applicant can furnish a statement of financial responsibility;

(h) The types of numbers of livestock the applicant intends to graze on the land;

(i) The number of years that livestock are permitted to graze and a description of the land on which they may graze; and

(j) The Reindeer Grazing Permit requires a permittee to file an annual report on the grazing operations and to agree to observe covenants involving assignments of permits and reindeer crossing permit applications.

We use the information the applicant provides to determine whether the applicant qualifies to receive a reindeer grazing permit or lease and whether permittee or lessee meets the terms and conditions of the granted permit or lease. If we did not collect this information, BLM would not be able to manage the Alaska reindeer grazing activities.

Based on our experience administering the activities described above, we estimate the public reporting burden for the information collected is 1 hour per application and 15 minutes for the annual report. The respondents are Alaska Natives. We estimate 6 responses per year and a total annual burden of 7 hours.

BLM will summarize all responses to this notice and include them in the request for OMB approval. All comments will become a matter of public record.

Dated: February 6, 2003.
Michael H. Schwartz,
Bureau of Land Management, Information Collection Clearance Officer.

[FR Doc. 03-3329 Filed 2-10-03; 8:45 am]

BILLING CODE 4310-84-M